EXPORT-IMPORT BANK

[Public Notice: 2021-6028]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995.

DATES: Comments must be received on or before November 16, 2021 to be assured of consideration.

ADDRESSES: Comments may be submitted electronically on WWW.REGULATIONS.GOV (EIB 95-09) or by mail to Office of Information and Regulatory Affairs, 725 17th Street NW, Washington, DC 20038 Attn: OMB 3048-EIB 95-09. The form can be reviewed at https://www.exim.gov/sites/default/files/pub/pending/95-09-li.pdf

FOR FURTHER INFORMATION CONTACT: To request additional information, please contact Donna Schneider donna.schneider@exim.gov, 202-565-3612.

SUPPLEMENTARY INFORMATION: The Letter of Interest (LI) is an indication of Export-Import (EXIM) Bank's willingness to consider financing a given export transaction. EXIM uses the requested information to determine the applicability of the proposed export transaction and determines whether or not to consider financing that transaction.

Title and Form Number: EIB 95-09 Letter of Interest Application.

OMB Number: 3048-0005.

Type of Review: Regular.

Need and Use: The Letter of Interest (LI) is an indication of Export-Import (EXIM) Bank's willingness to consider financing a given export transaction. EXIM uses the requested information to determine the applicability of the proposed export transaction system prompts and determines whether or not to consider financing that transaction.

Affected Public: This form affects entities involved in the export of U.S. goods and services.

Annual Number of Respondents: 400.

Estimated Time per Respondent: 0.75 hours.

Annual Burden Hours: 300.

Frequency of Reporting of Use: On occasion.

Government Expenses:

Reviewing Time per Year: 400.

Average Wages per Hour: $42.50.

Average Cost per Year: $17,000 (time * wages).

Benefits and Overhead: 20%.

Total Government Cost: $20,400.

Bassam Doughman,
IT Specialist.

[FR Doc. 2021-20059 Filed 9-16-21; 8:45 am]

BILLING CODE 6690-01-P